DEPARTMENT OF TRANSPORTATION

Federal Aviation Administration

Agency Information Collection Activities: Requests for Comments; Clearance of Renewed Approval of Information Collection: Air Carrier Contract Maintenance Requirements

AGENCY: Federal Aviation Administration (FAA), DOT.

ACTION: Notice and request for comments.

SUMMARY: In accordance with the Paperwork Reduction Act of 1995, FAA invites public comments about our intention to request the Office of Management and Budget (OMB) approval to renew an information collection. This information collection requires air carriers to report monthly to the FAA, all maintenance providers with whom they have contracted with to perform maintenance on their aircraft. This is necessary to ensure that maintenance provider data is current, and in a format readily accessible to the FAA. This will enable the FAA to adequately target its inspection resources for surveillance, and make accurate risk assessments.

DATES: Written comments should be submitted by February 19, 2019.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION:

OMB Control Number: 2120-0766.

Title: Air Carrier Contract Maintenance Requirements.

Form Numbers: There are no forms associated with this collection.

Type of Review: This is a renewal of an information collection.

Background: Air carrier maintenance has evolved from mostly an “in-house” operation to an extended network of maintenance providers that fulfill contracts with air carriers to perform their aircraft maintenance. Any person performing maintenance for an air carrier must follow the air carrier's maintenance manual.

The FAA has found that, although an air carrier is required to list its maintenance providers and a general description of the work to be done in its maintenance manual, these lists are not always kept up to date, are not always complete, and are not always in a format that is readily useful for FAA oversight and analysis purposes. Without accurate and complete information on the work being performed for air carriers, the FAA cannot adequately target its inspection resources for surveillance and make accurate risk assessments.

This collection of information supports regulatory requirements necessary under 14 CFR part 121 and part 135 to ensure safety of flight by requiring air carriers to provide a list to the FAA of all persons with whom they contract their maintenance. The list must be updated with any changes, including additions or deletions, and the updated list provided to the FAA in a format acceptable to the FAA by the last day of each calendar month. The FAA uses its oversight tool, the Safety Assurance System (SAS), to generate and electronically provide a standardized template to air carriers. Air carriers document maintenance provider changes on this template and return it via email to their Flight Standards District Office or Certificate management Office.

This collection also supports the FAA's strategic goal to provide to the next level of safety, by achieving the lowest possible accident rate and always improving safety, so all users of our aviation system can arrive safely at their destinations.

Respondents: 312 air carriers (110 large air carriers and 202 small air carriers).

Frequency: Monthly.

Estimated Average Burden per Response: Estimated average burden per response is 6 hours.

Estimated Total Annual Burden: 1688 hours.

Issued in Washington, DC on December 14, 2018.
Barbara L. Hall,
FAA Information Collection Clearance Officer, Performance, Policy, and Records Management Branch, ASP-110.

[FR Doc. 2018-27489 Filed 12-19-18; 8:45 am]

BILLING CODE 4910-13-P